DEPARTMENT OF ENERGY

Notice of Request for Information (RFI) on Identifying Wells of Opportunity for Critical Geothermal Field Research Applications

AGENCY: Office of Energy Efficiency and Renewable Energy (EERE), Department of Energy (DOE).

ACTION: Request for information (RFI).

SUMMARY: The U.S. Department of Energy (DOE) invites public comment on its Request for Information (RFI) regarding the identification of wells of opportunity for critical geothermal field research application. DOE is seeking information from the geothermal community about underutilized wells in known geothermal resource areas in the United States. The goal is to obtain feedback on industry willingness to partner with DOE's Geothermal Technologies Office (GTO) to test downhole tools, technologies, and methodologies that can improve the probability of successful geothermal commercialization.

DATES: Responses to the RFI must be received by October 25, 2019.

ADDRESSES: Interested parties are to submit comments electronically to GeothermalRFI@ee.doe.gov. Include Wells of Opportunity in the subject of the title. The complete RFI document is located at https://eere-exchange.energy.gov/.

FOR FURTHER INFORMATION CONTACT: Questions may be addressed to GeothermalRFI@ee.doe.gov, or Lauren Boyd, 202-287-1854. Further instruction can be found in the RFI document posted on EERE Exchange.

SUPPLEMENTARY INFORMATION: The purpose of this RFI is to solicit feedback from industry, academia, research laboratories, government agencies, and other stakeholders on existing Wells of Opportunity (underutilized wells in known geothermal resources) that DOE and partners can use for downhole testing of tools, technologies, and methodologies. EERE is specifically interested in information from stakeholders with available well infrastructure on their willingness to participate and allow research and testing for downhole tools, technologies, and methods in their well. Additionally, EERE is interested in stakeholder feedback on their well asset acquisition experiences for technology testing, development, or other purposes, particularly on what incentives were important towards obtaining the necessary infrastructure. The RFI is available at: https://eere-exchange.energy.gov/.

Confidential Business Information

Pursuant to 10 CFR 1004.11, any person submitting information that he or she believes to be confidential and exempt by law from public disclosure should submit via email two well marked copies: One copy of the document marked “confidential” including all the information believed to be confidential, and one copy of the document marked “non-confidential” with the information believed to be confidential deleted. DOE will make its own determination about the confidential status of the information and treat it according to its determination.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person that would result from public disclosure; (6) when such information might lose its confidential character due to the passage of time; and (7) why disclosure of the information would be contrary to the public interest.

Signed in Washington, DC, on September 12, 2019.
Susan Hamm,
Director Geothermal Technologies Office.

[FR Doc. 2019-20809 Filed 9-24-19; 8:45 am]

BILLING CODE 6450-01-P